FEDERAL COMMUNICATIONS COMMISSION

47 CFR Part 1

[DA 00-447]

Change of Address

AGENCY: Federal Communications Commission.

ACTION: Final rule.

SUMMARY: The Commission is amending its rules to reflect the change of address of the Commission's headquarters to the Portals II Building.

DATES: Effective March 17, 2000.

FOR FURTHER INFORMATION CONTACT: Laurence Schecker, Office of General Counsel, (202) 418-1720.

SUPPLEMENTARY INFORMATION: This order adopted February 29, 2000 amends 47 CFR 1.13(a)(1), to reflect the change of address of the Commission's headquarters to the Portals II Building, 445 12th Street, SW, Washington, DC 20554. The Commission's rules are amended as set forth:

List of Subjects in 47 CFR Part 1

Practice and procedure.

Federal Communications Commission.
Magalie Roman Salas,
Secretary.

Rule Change

For the reasons discussed in the preamble, the Federal Communications Commission amends 47 CFR part 1 as follows:

PART 1—PRACTICE AND PROCEDURE

1. The authority citation for Part 1 continues to read as follows:

Authority: 15 U.S.C. 79 et seq.; 47 U.S.C. 151, 154(i), 154(j), 155, 225, 303(r) and 309.

2. In 47 CFR 1.13(a)(1) remove the words “Room 614, 1919 M Street NW” and add, in their place, the words “Room 8-A741, 445 12th Street, SW.”

[FR Doc. 00-6461 Filed 3-16-00; 8:45 am]

BILLING CODE 6712-01-U